DEPARTMENT OF AGRICULTURE

Forest Service

Prince of Wales Resource Advisory Committee

AGENCY: Forest Service, USDA.

ACTION: Notice of meeting.

SUMMARY: The Prince of Wales Resource Advisory Committee will meet in Coffman Cove, Alaska, May 16, 2011 The committee is authorized under the Secure Rural Schools and Community Self-Determination Act (Pub. L 110-343) (the Act) and operates in compliance with the Federal Advisory Committee Act. The purpose of the committee is to improve collaborative relationships and to provide advice and recommendations to the Forest Service concerning projects and funding consistent with the title II of the Act. The meeting is open to the public. The purpose of the meeting is to discuss potential projects under the Secure Rural Schools and Community Self-Determination Act of 2008.

DATES: The meeting will be held May 16, 2011 from 10 a.m. to 4 p.m.

ADDRESSES: The meeting will be held at the Ferry Terminal 110 Stikine Way Coffman Cove, Alaska. Written comments may be submitted as described under SUPPLEMENTARY INFORMATION.

All comments, including names and addresses when provided, are placed in the record and are available for public inspection and copying. The public may inspect comments received at the Craig Ranger District. Please call ahead to 907-826-3271 to facilitate entry into the building to view comments.

FOR FURTHER INFORMATION CONTACT: Rebecca Sakraida, RAC Coordinator, 907-826-1601 or e-mail rsakraida@fs.fed.us.

Individuals who use telecommunication devices for the deaf (TDD) may call the Federal Information Relay Service (FIRS) at 1-800-877-8339 between 8 a.m. and 8 p.m., Eastern Standard Time, Monday through Friday. Requests for reasonable accomodation for access to the facility or procedings may be made by contacting the person listed FOR FURTHER INFORMATION.

SUPPLEMENTARY INFORMATION: The following business will be conducted: Review of projects submitted for review. An agenda will be available at the Secure Rural Schools Web site, https://wwwnotes.fs.fed.us/wo/secure_rural_schools.nsf. Anyone who would like to bring related matters to the attention of the committee may file written statements with the committee staff before or after the meeting. The agenda will include time for people to make oral statements of three minutes or less. Individuals wishing to make an oral statement should request in writing by May 9, 2011 to be scheduled on the agenda. Written comments and requests for time for oral comments must be sent to Prince of Wales RAC c/o District Ranger P.O. Box 500 Craig, AK 99921, or by e-mail to rsakraida@fs.fed.us, or via facsimile to 907-826-2972.

April 21, 2011.
Francisco B. Sanchez,
District Ranger.

[FR Doc. 2011-10691 Filed 5-2-11; 8:45 am]

BILLING CODE 3410-11-P